INTERNATIONAL TRADE COMMISSION

[USITC SE-15-008]

Sunshine Act Meeting

AGENCY HOLDING THE MEETING: United States International Trade Commission.

TIME AND DATE: March 19, 2015 at 11:00 a.m.

PLACE: Room 101, 500 E Street SW., Washington, DC 20436, Telephone: (202) 205-2000.

STATUS: Open to the public

MATTERS TO BE CONSIDERED:

1. Agendas for future meetings: none.

2. Minutes.

3. Ratification List.

4. Vote in Inv. Nos. 704-TA-1 and 734-TA-1 (Review) (Sugar from Mexico). The Commission is currently scheduled to complete and file its determinations on March 24, 2015; views of the Commission are currently scheduled to be completed and filed on April 3, 2015.

5. Vote in Inv. No. 731-TA-1046 (Second Review) (Tetrahydrofurfuryl Alcohol from China). The Commission is currently scheduled to complete and file its determination and views of the Commission on April 3, 2015.

6. Outstanding action jackets: none.

In accordance with Commission policy, subject matter listed above, not disposed of at the scheduled meeting, may be carried over to the agenda of the following meeting.

Issued: March 9, 2015.
By order of the Commission.
William R. Bishop,
Supervisory Hearings and Information Officer.

[FR Doc. 2015-05732 Filed 3-10-15; 11:15 am]

BILLING CODE 7020-02-P